ENVIRONMENTAL PROTECTION AGENCY

40 CFR Part 62

[EPA-R08-OAR-2022-0929; FRL-10462-01-R8]

Approval and Promulgation of Implementation Plans; Colorado; Delegation of Authority of the Federal Plan for Existing Hospital, Medical, Infectious Waste Incinerators

AGENCY: Environmental Protection Agency (EPA).

ACTION: Proposed rule.

SUMMARY: The Environmental Protection Agency (EPA or the “Agency”) is proposing approval of a request submitted by the Colorado Department of Public Health and Environment (CDPHE) on June 27, 2022 for delegation of authority to implement and enforce Federal Plan Requirements for Hospital/Medical/Infectious Waste Incinerators (HMIWI) Constructed On or Before December 1, 2008 (the Federal Plan), within the state of Colorado. The Federal Plan establishes emission limits and monitoring, operating, and recordkeeping requirements for HMIWI units constructed on or before December 1, 2008, or modified on or before April 6, 2010. A Memorandum of Agreement (MOA) was signed on July 21, 2022 by the CDPHE Air Pollution Control Division Director, Michael Ogletree. This MOA constitutes the mechanism for the transfer of authority from the EPA to CDPHE. The MOA became effective upon signature by Regional Administrator, KC Becker, on August 8, 2022. The MOA delineates policies, responsibilities, and procedures by which the Federal plan will be administered and enforced by the CDPHE, as well as the authorities retained by EPA. The MOA and the request letter are included in the docket for this action. Accordingly, EPA is proposing to approve CDPHE's submittal in accordance with the Clean Air Act (CAA).

DATES: Written comments must be received on or before February 16, 2023.

ADDRESSES: Submit your comments, identified by Docket ID No. EPA-R08-OAR-2022-0929, to the Federal Rulemaking Portal: https://www.regulations.gov. Follow the online instructions for submitting comments. Once submitted, comments cannot be edited or removed from www.regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available electronically in www.regulations.gov. To reduce the risk of COVID-19 transmission, for this action we do not plan to offer hard copy review of the docket. Please email or call the person listed in the FOR FURTHER INFORMATION CONTACT section if you need to make alternative arrangements for access to the docket.

FOR FURTHER INFORMATION CONTACT: Allison Reibach, Air and Radiation Division, U.S. Environmental Protection Agency (EPA), Region 8, Mail Code 8P-ARD-ATRM, 1595 Wynkoop Street, Denver, Colorado 80202-1129, telephone number: (303) 312-6949, email address: reibach.allison@epa.gov.

SUPPLEMENTARY INFORMATION: Throughout this document “we,” “us,” and “our” means EPA. In the Final Rules section of this Federal Register, EPA is approving this action as a direct final rule without prior proposal because the Agency views this as a noncontroversial submittal and anticipates no adverse comments. A detailed rationale for the approval is set forth in the direct final rule. If no relevant adverse comments are received in response to this proposed rule, no further activity is contemplated. If EPA receives such comments, the direct final rule will be withdrawn and all public comments received will be addressed in a subsequent final rule based on this proposed rule. EPA will not institute a second comment period. Any parties interested in commenting on this action should do so at this time. For additional information, see the direct final rule which is located in the Final Rules section of this Federal Register.

List of Subjects in 40 CFR Part 62

Environmental protection, Air pollution control, Intergovernmental relations, Reporting and recordkeeping requirements, Waste treatment and disposal.

Authority: 42 U.S.C. 7401 et seq.

Dated: January 5, 2023.
KC Becker,
Regional Administrator, Region 8.

[FR Doc. 2023-00410 Filed 1-13-23; 8:45 am]

BILLING CODE 6560-50-P